DEPARTMENT OF HEALTH AND HUMAN SERVICES

Substance Abuse and Mental Health Services Administration

Request for Nominations to the SAMHSA National Advisory Council

The Substance Abuse and Mental Health Services Administration (SAMHSA) is accepting nominations through October 7, 2009, to fill vacancies for its five advisory committees (the SAMHSA National Advisory Council, the Center for Substance abuse Prevention, Center for Substance Abuse Treatment and Center for Mental Health Services National Advisory Councils and the Advisory Committee for Women's Services). Under section 502 of the Public Health Service Act, the National Advisory Councils (NAC) provide advice to the Secretary of the U.S. Department of Health and Human Services (HHS), SAMHSA Administrator, and/or Center Directors on a broad range of polices and services related to substance use and mental health.

Legislation requires that each NAC be composed of 12 members: nine members must be leading representatives of the health disciplines (including public health, behavioral health, and social sciences) relevant to the mission of SAMHSA and its Centers and three members must be from the general public and include leaders in the fields of public policy, public relations, law, health policy, economics, or management.

Under section 501 of the Public Health Service Act, the Advisory Committee for Women's Services (ACWS) is statutorily mandated to advise the SAMHSA Administrator and the Associate Administrator for Women's Services on appropriate activities to be undertaken by SAMHSA and its Centers with respect to women's substance abuse and mental health services. The SAMHSA Administrator will appoint the 10 members of this Committee. The members must be from among physicians, practitioners, treatment providers, and other health professionals, whose clinical practice, specialization, or professional expertise includes a significant focus on women's substance abuse and mental health conditions.

The current lists of members for the advisory committees are available on the SAMHSA Web site at https://nac.samhsa.gov/index.aspx.

Members are appointed for a term of up to four years. Individuals are nominated, selected, and appointed to a NAC or the ACWS to contribute to the advisory committee's objectives based on their qualifications. The Federal Advisory Committee Act (FACA) and HHS policy require that committee membership be fairly balanced in terms of points of view represented and the committee's functions to be performed. Consideration is given to a broad representation of geographic areas, gender, race/ethnicity, and disability. The advisory committees will meet not less than two times per year and on an as needed basis.

Any interested person or organization may nominate qualified individuals for membership. Self-nominations are also welcome. Nominations must include a resume and short biography describing the educational and professional qualifications of the nominee and the nominee's current occupation, position, address and daytime telephone number. Individuals may be recommended for membership on more than one advisory committee, but will be appointed to only one advisory body. Nominations can be sent by U.S. Mail or electronically to Ms. Toian Vaughn, Designated Federal Official, at the address below.

Contact: Toian Vaughn, M.S.W., Designated Federal Official, SAMHSA National Advisory Council and SAMHSA Committee Management Officer, 1 Choke Cherry Road, Room 8-1089, Rockville, Maryland 20857. Telephone: (240) 276-2307; Fax: (240) 276-2220 and E-mail: toian.vaughn@samhsa.hhs.gov.

Toian Vaughn,
Committee Management Officer, Substance Abuse and Mental Health Services Administration.

[FR Doc. E9-20884 Filed 8-28-09; 8:45 am]

BILLING CODE 4162-20-P